DEPARTMENT OF COMMERCE

International Trade Administration

[A-583-824]

Polyvinyl Alcohol From Taiwan: Final Results of Third Antidumping Duty Administrative Review and Determination Not To Revoke Order in Part

AGENCY: Import Administration, International Trade Administration, Department of Commerce.

ACTION: Notice of final results of third antidumping duty administrative review and determination not to revoke order in part.

SUMMARY: On June 6, 2000, the Department of Commerce published the preliminary results in the third administrative review of the antidumping duty order on polyvinyl alcohol from Taiwan and intent not to revoke the order in part. The review covers Chang Chun Petrochemical Co., Ltd., a manufacturer/exporter of the subject merchandise. The period of review is May 1, 1998, through April 30, 1999.

Based on our analysis of the comments received, we have made one change in the margin calculations to correct a ministerial error. However, the final results do not differ from the preliminary results as a result of that change. The final weighted-average dumping margin for the reviewed firm is listed below in the section entitled “Final Results of Review.”

EFFECTIVE DATE: October 12, 2000.

FOR FURTHER INFORMATION CONTACT: Brian Ledgerwood or Brian Smith, Import Administration, International Trade Administration, U.S. Department of Commerce, Washington, DC 20230; telephone: (202) 482-3836 or (202) 482-1766, respectively.

SUPPLEMENTARY INFORMATION:

The Applicable Statute

Unless otherwise indicated, all citations to the Tariff Act of 1930, as amended (the Act), are references to the provisions effective January 1, 1995, the effective date of the amendments made to the Act by the Uruguay Round Agreements Act (“URAA”). In addition, unless otherwise indicated, all citations to the Department of Commerce's (the Department's) regulations are to 19 CFR part 351 (April 1999).

Background

The review covers one manufacturer/exporter, Chang Chun Petrochemical Co., Ltd. (“Chang Chun”). The period of review (“POR”) is May 1, 1998, through April 30, 1999.

On June 6, 2000, the Department published in the Federal Register the preliminary results in the third administrative review of the antidumping duty order on polyvinyl alcohol from Taiwan and intent not to revoke the order in part (65 FR 35896). On July 6, 2000, Chang Chun requested a hearing.

We invited parties to comment on the preliminary results of review. Parties filed case and rebuttal briefs on July 6 and 13, 2000, respectively. A public hearing was held on July 20, 2000. The Department has conducted this administrative review in accordance with section 751 of the Act.

Scope of Review

The product covered by this review is PVA. PVA is a dry, white to cream-colored, water-soluble synthetic polymer. This product consists of polyvinyl alcohols hydrolyzed in excess of 85 percent, whether or not mixed or diluted with defoamer or boric acid. Excluded from this review are PVAs covalently bonded with acetoacetylate, carboxylic acid, or sulfonic acid uniformly present on all polymer chains in a concentration equal to or greater than two mole percent, and PVAs covalently bonded with silane uniformly present on all polymer chains in a concentration equal to or greater than one-tenth of one mole percent. PVA in fiber form is not included in the scope of this review.

The merchandise under review is currently classifiable under subheading 3905.30.00 of the Harmonized Tariff Schedule of the United States (“HTSUS”). Although the HTSUS subheading is provided for convenience and customs purposes, our written description of the scope is dispositive.

Analysis of Comments Received

All issues raised in the case and rebuttal briefs by parties to this antidumping duty administrative review are addressed in the “Issues and Decision Memorandum” (“Decision Memorandum”) from Richard W. Moreland, Deputy Assistant Secretary for Import Administration, to Troy H. Cribb, Acting Assistant Secretary for Import Administration, dated October 4, 2000, which is hereby adopted by this notice. A list of the issues which parties have raised and to which we have responded, all of which are in the Decision Memorandum, is attached to this notice as an Appendix. Parties can find a complete discussion of all issues raised in this review and the corresponding recommendations in this public memorandum which is on file in the Central Records Unit, room B-099 of the main Department building. In addition, a complete version of the Decision Memorandum can be accessed directly on the Web at ia.ita.doc.gov. The paper copy and electronic version of the Decision Memorandum are identical in content.

Determination Not To Revoke Order

For the reasons outlined in the Decision Memorandum, we have determined not to revoke the antidumping duty order with respect to subject merchandise produced and also exported by Chang Chun Petrochemical Co., Ltd. because its sales were not made in commercial quantities in accordance with 19 CFR 351.222(e).

Changes Since the Preliminary Results

Based on our analysis of the comments received, we have made one change in the margin calculations. For a discussion of this change, see the “Margin Calculations” section of the Decision Memorandum.

Final Results of Review

We determine that the following weighted-average margin percentage exists for Chang Chun for the period May 1, 1998, through April 30, 1999:

Manufacturer/exporter | Margin (percent)
Chang Chun Petrochemical Co., Ltd | 0.00

The Department shall determine, and the Customs Service shall assess, antidumping duties on all appropriate entries. In accordance with 19 CFR 351.106(c)(2), we will instruct the Customs Service to assess antidumping duties on all appropriate entries covered by this review if any importer-specific assessment rate calculated in the final results of this review is above de minimis (i.e., at or above 0.50 percent). If no importer-specific assessment rate is at or above de minimus, we shall instruct the Customs Service to liquidate all appropriate entries without regard to antidumping duties.

Cash Deposit Requirements

The following deposit requirements will be effective upon publication of this notice of final results of the administrative review for all shipments of PVA from Taiwan entered, or withdrawn from warehouse, for consumption on or after the date of publication, as provided by section 751(a)(1) of the Act: (1) No cash deposit rate for Chang Chun will be required for PVA from Taiwan that is produced and exported by Chang Chun; (2) for exporters not covered in this review, but covered in the less-than-fair-value (“LTFV”) investigation or prior reviews, the cash deposit rate will continue to be the company-specific rate from the LTFV investigation or the prior review; (3) if the exporter is not a firm covered in this review, a prior review, or the LTFV investigation, but the manufacturer is, the cash deposit rate will be the rate established for the most recent period for the manufacturer of the merchandise; and (4) the cash deposit rate for all other manufacturers or exporters will continue to be 19.21 percent. This rate is the “All Others” rate from the LTFV investigation.

These deposit requirements shall remain in effect until publication of the final results of the next administrative review.

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

This notice also serves as the only reminder to parties subject to administrative protective orders (“APO”) of their responsibility concerning the return or destruction of proprietary information disclosed under APO in accordance with 19 CFR 351.305. Timely written notification of the return/destruction of APO materials or conversion to judicial protective order is hereby requested. Failure to comply with the regulations and terms of an APO is a violation which is subject to sanction.

We are issuing and publishing this determination and notice in accordance with sections section 751(a)(1) and 777(i) of the Act.

Dated: October 4, 2000.
Troy H. Cribb,
Acting Assistant Secretary for Import Administration.

Appendix—List of Issues

1. Commercial Quantities:

a. Applicability of the Commercial Quantities Regulation to Chang Chun's U.S. Sales of Subject Merchandise

b. Application of the Commercial Quantities Requirement and the Positive Evidence Rule

c. Other Commercial-Quantity-Related Issues

2. Positive Evidence Rule and Factors to Consider in Revoking the Order

3. Ministerial Error

[FR Doc. 00-26241 Filed 10-11-00; 8:45 am]

BILLING CODE 3510-DS-P